DEPARTMENT OF ENERGY

Federal Energy Regulatory Commission

[Docket No. OR14-1-000]

MarkWest Liberty Ethane Pipeline L.L.C.; Notice of Petition for Declaratory Order

Take notice that on October 3, 2013, pursuant to Rule 207(a)(2) of the Commission's Rules of Practices and Procedure, 18 CFR 385.207(a)(2)(2013), MarkWest Liberty Ethane Pipeline L.L.C. (MarkWest) filed a petition requesting a declaratory order approving the overall tariff and rate structure for a new ethane pipeline system that will transport ethane from the vicinity of Majorsville, West Virginia to Houston, Pennsylvania, as more fully described in their petition.

Any person desiring to intervene or to protest in this proceedings must file in accordance with Rules 211 and 214 of the Commission's Rules of Practice and Procedure (18 CFR 385.211 and 385.214) on or before 5:00 p.m. Eastern time on the specified comment date. Protests will be considered by the Commission in determining the appropriate action to be taken, but will not serve to make protestants parties to the proceeding. Anyone filing a motion to intervene or protest must serve a copy of that document on the Petitioner.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 5 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please email FERCOnlineSupport@ferc.gov or call (866) 208-3676 (toll free). For TTY, call (202) 502-8659.

Comment Date: 5:00 p.m. Eastern time on November 5, 2013.

Dated: October 8, 2013.
Kimberly D. Bose,
Secretary.

[FR Doc. 2013-24467 Filed 10-15-13; 8:45 am]

BILLING CODE 6717-01-P